DEPARTMENT OF ENERGY

Office of Science; Notice of Renewal of the Basic Energy Sciences Advisory Committee

Pursuant to Section 14(a)(2)(A) of the Federal Advisory Committee Act, App. 2, and § 102-3.65, title 41, Code of Federal Regulations and following consultation with the Committee Management Secretariat, General Services Administration, notice is hereby given that the Basic Energy Sciences Advisory Committee has been renewed until June 30, 2005.

The Committee will provide advice to the Office of Science (DOE), on the basic energy sciences program. The Secretary of Energy has determined that renewal of the Basic Energy Sciences Advisory Committee is essential to the conduct of the Department's business and in the public interest in connection with the performance of duties imposed by law upon the Department of Energy. The Committee will continue to operate in accordance with the provisions of the Federal Advisory Committee Act (Pub. L. 92-463), the General Services Administration Final Rule on Federal Advisory Committee Management, and other directives and instructions issued in implementation of those acts.

FOR FURTHER INFORMATION CONTACT: Ms. Rachel Samuel at (202) 586-3279.

Issued in Washington, DC, on May 11, 2005.
James N. Solit,
Advisory Committee Management Officer.

[FR Doc. 05-9999 Filed 5-18-05; 8:45 am]

BILLING CODE 6450-01-P